DEPARTMENT OF AGRICULTURE

Animal and Plant Health Inspection Service

7 CFR Part 319

[Docket No. APHIS-2012-0042]

RIN 0579-AD69

Importation of Fresh Beans, Shelled or in Pods, From Jordan Into the Continental United States

AGENCY: Animal and Plant Health Inspection Service, USDA.

ACTION: Final rule.

SUMMARY: We are amending the fruits and vegetables regulations to allow the importation of commercial shipments of fresh beans, shelled or in pods (French, green, snap, and string), from Jordan into the continental United States. As a condition of entry, the beans must be produced in accordance with a systems approach that includes requirements for packing, washing, and processing. The beans must also be accompanied by a phytosanitary certificate attesting that all phytosanitary requirements have been met and that the consignment was inspected and found free of quarantine pests. This action allows for the importation of fresh beans, shelled or in pods, from Jordan into the continental United States while continuing to provide protection against the introduction of plant pests.

DATES: Effective Date: December 19, 2013.

FOR FURTHER INFORMATION CONTACT: Mr. Marc Phillips, Senior Regulatory Coordination Specialist, Regulatory Coordination and Compliance, PPQ, APHIS, 4700 River Road, Unit 156, Riverdale, MD 20737-1231; (301) 851-2114.

SUPPLEMENTARY INFORMATION:

Background

The regulations in “Subpart-Fruits and Vegetables” (7 CFR 319.56-1 through 319.56-61, referred to below as the regulations) prohibit or restrict the importation of fruits and vegetables into the United States from certain parts of the world to prevent the introduction and dissemination of plant pests that are new to or not widely distributed within the United States.

On May 2, 2013, we published in the Federal Register (78 FR 25623-25626, Docket No. APHIS-2012-0042) a proposal ¹ to amend the regulations to allow the importation of commercial shipments of fresh beans, shelled or in pods (French, green, snap, and string), from Jordan into the continental United States. As a condition of entry, the beans were required to be produced in accordance with a systems approach that includes requirements for packing, washing, and processing. The beans were also required to be accompanied by a phytosanitary certificate attesting that all phytosanitary requirements had been met and that the consignment was inspected and found free of quarantine pests. This proposed action was intended to allow for the importation of fresh beans, shelled or in pods, from Jordan into the continental United States while continuing to provide protection against the introduction of plant pests.

¹ To view the proposed rule and the pest risk analysis we prepared for that action, go to http://www.regulations.gov/#!docketDetail;D=APHIS-2012-0042.

We solicited comments concerning our proposal for 60 days ending July 1, 2013. We did not receive any comments. Therefore, for the reasons given in the proposed rule, we are adopting the proposed rule as a final rule, without change.

Note: In our May 2013 proposed rule, we proposed to add the conditions governing the importation of beans from Jordan as § 319.56-59. In this final rule, those conditions are added as § 319.56-62.

Executive Order 12866 and Regulatory Flexibility Act

This final rule has been determined to be not significant for the purposes of Executive Order 12866 and, therefore, has not been reviewed by the Office of Management and Budget.

In accordance with the Regulatory Flexibility Act, we have analyzed the potential economic effects of this action on small entities. The analysis is summarized below. Copies of the full analysis are available on the Regulations.gov Web site (see footnote 1 in this document for a link to Regulations.gov) or by contacting the person listed under FOR FURTHER INFORMATION CONTACT.

The Small Business Administration's small-entity standard for U.S. farms that produce fresh beans is annual receipts of not more than $750,000. In 2007, the average market value of sales by the 15,654 U.S. farms that produced snap beans for the fresh market was about $25,400, well below the small-entity standard.

Jordan expects to export 200 metric tons of fresh beans to the continental United States annually. This quantity is equivalent to less than one-tenth of 1 percent of U.S fresh snap bean production. While most entities that may be affected by the final rule are small, the impact of the rule will be minor.

Under these circumstances, the Administrator of the Animal and Plant Health Inspection Service has determined that this action will not have a significant economic impact on a substantial number of small entities.

Executive Order 12988

This final rule allows fresh beans, shelled or in pods, to be imported into the United States from Jordan. State and local laws and regulations regarding fresh beans imported under this rule will be preempted while the fruit is in foreign commerce. Fresh beans are generally imported for immediate distribution and sale to the consuming public and would remain in foreign commerce until sold to the ultimate consumer. The question of when foreign commerce ceases in other cases must be addressed on a case-by-case basis. No retroactive effect will be given to this rule, and this rule will not require administrative proceedings before parties may file suit in court challenging this rule.

Paperwork Reduction Act

In accordance with section 3507(d) of the Paperwork Reduction Act of 1995 (44 U.S.C. 3501 et seq.), the information collection or recordkeeping requirements included in this final rule, which were filed under 0579-0405, have been submitted for approval to the Office of Management and Budget (OMB). When OMB notifies us of its decision, if approval is denied, we will publish a document in the Federal Register providing notice of what action we plan to take.

E-Government Act Compliance

The Animal and Plant Health Inspection Service is committed to compliance with the E-Government Act to promote the use of the Internet and other information technologies, to provide increased opportunities for citizen access to Government information and services, and for other purposes. For information pertinent to E-Government Act compliance related to this rule, please contact Mrs. Celeste Sickles, APHIS' Information Collection Coordinator, at (301) 851-2908.

List of Subjects in 7 CFR Part 319

Coffee, Cotton, Fruits, Imports, Logs, Nursery stock, Plant diseases and pests, Quarantine, Reporting and recordkeeping requirements, Rice, Vegetables.

Accordingly, we are amending 7 CFR part 319 as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

2. A new § 319.56-62 is added to read as follows:

§ 319.56-62 Fresh beans, shelled or in pods, from Jordan.

Fresh beans (Phaseolus vulgaris L.), shelled or in pods (French, green, snap, and string), may be imported into the continental United States from Jordan only under the conditions described in this section. These conditions are designed to prevent the introduction of the following quarantine pests: Chrysodeixis chalcites, Helicoverpa armígera, Lampides boeticus Liriomyza huidobrensis, Maconellicoccus hirsutus, Phoma exigua var. diversispora, and Spodoptera littoralis.

(a) Packinghouse requirements. The beans must be packed in packing facilities that are approved and registered with Jordan's national plant protection organization (NPPO). Each shipping box must be marked with the identity of the packing facility.

(b) Post-harvest processing. The beans must be washed in potable water. Each bean pod must be either cut into chevrons or pieces that do not exceed 2 centimeters in length, or shredded or split the length of the bean pod. Split or shredded bean pod pieces may not exceed 8 centimeters in length and 8.5 millimeters in diameter.

(c) Commercial consignments. The beans must be imported as commercial consignments only.

(d) Phytosanitary certificate. Each consignment of fresh beans must be accompanied by a phytosanitary certificate issued by Jordan's NPPO attesting that the conditions of this section have been met and that the consignment has been inspected and found free of the pests listed in this section.

(Approved by the Office of Management and Budget under control number 0579-0405)

Done in Washington, DC, this 13th day of November 2013.
Michael C. Gregoire,
Acting Administrator, Animal and Plant Health Inspection Service.

[FR Doc. 2013-27689 Filed 11-18-13; 8:45 am]

BILLING CODE 3410-34-P